DEPARTMENT OF ENERGY

Federal Energy Regulatory Commission

[Docket No. RP-182-000]

Young Gas Storage Company, Ltd.; Notice of Tariff Filing

February 18, 2000.

Take notice that on February 16, 2000, Young Gas Storage Company, Ltd. (Young), tendered for filing to become part of its FERC Gas Tariff, Original Volume No. 1, the tariff sheets listed in Appendix A to the filing, to be effective March 16, 2000.

Young states it is proposing to make certain minor changes to its tariff and certain administrative revisions and clarifications as follows:

• Young is proposing to delete the obsolete word “Demand” from its General Terms and Conditions. This word will be replaced with “Reservation” throughout the tariff;

• Young is proposing to update and expand the Payments, Notices, Nominations and Points of Contact Sheets;

• Young is proposing to remove outdated language relating to rates during the first four years of storage field development;

• Young is clarifying the calculation of Capacity Overrun of Maximum Available Capacity;

• Young is proposing to incorporate nomination language in the General Terms and Conditions section of the tariff. This language was formerly in the Form of Storage Service Agreement section;

• Young is proposing to incorporate Revenue Credit language in the General Terms and Conditions section of the tariff. This language was formerly in the Form of Storage Service Agreement section;

• Young has clarified that authorized overrun quantities will be scheduled based on rate.

• Young proposed to clarify the responsibility of each party with regard to check meters and measurement review;

• Young has clarified the basis of the Annual Charge Adjustment;

• Young is revising the complaints section of the General Terms and Conditions to conform to the requirements in Rule 206 of FERC's Rule of Practice and Procedure (18 CFR 385.206);

• Young also proposes to capitalize defined terms, change “Young” to “Transporter”, change “Customer” to “Shipper” and make other minor corrections and clarifications throughout the tariff.

Young further states that copies of this filing have been served on Young's jurisdictional shippers and public bodies.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-4455 Filed 2-24-00; 8:45 am]

BILLING CODE 6717-01-M